DEPARTMENT OF COMMERCE

International Trade Administration

[A-485-806]

Notice of Amended Preliminary Antidumping Duty Determination of Sales at Less Than Fair Value: Certain Hot-Rolled Carbon Steel Flat Products From Romania

AGENCY: Import Administration, International Trade Administration, Department of Commerce.

EFFECTIVE DATE: June 6, 2001.

FOR FURTHER INFORMATION CONTACT: Christopher Riker or Charles Riggle, Office of AD/CVD Enforcement 5, Import Administration, International Trade Administration, U.S. Department of Commerce, 14th Street and Constitution Avenue NW., Washington, DC 20230; telephone (202) 482-0186 or (202) 482-0650, respectively.

Amendment of Preliminary Determination

The Department of Commerce (the Department) is amending the preliminary determination in the antidumping investigation of certain hot-rolled carbon steel flat products (HRS) from Romania. This amended preliminary determination results in revised antidumping rates.

Background

On April 23, 2001, the Department issued its affirmative preliminary determination in this proceeding. See Notice of Preliminary Determination of Sales at Less Than Fair Value: Certain Hot-Rolled Carbon Steel Flat Products from Romania, 66 FR 22194 (May 3, 2001). On May 1, 2001, the Department received timely allegations from certain petitioners ¹ of ministerial errors in connection with the preliminary determination.

¹ The petitioners who alleged ministerial errors were Bethlehem Steel Corporation, LTV Steel Company, Inc., National Steel Corporation, and U.S. Steel Group, a unit of USX Corporation.

The petitioners alleged that significant ministerial errors exist, specifically that the Department did not value electricity or methane gas correctly in their factors of production valuation memorandum and erred in not including interest expenses in its normal value calculations. See letter from Dewey Ballantine to the Department of Commerce alleging ministerial errors in the preliminary determination (May 1, 2001).

Significant Ministerial Error

A significant ministerial error is defined as a correction which, singly or in combination with other errors, would result in (1) a change of at least 5 absolute percentage points in, but not less than 25 percent of, the weighted-average dumping margin calculated in the original (erroneous) preliminary determination; or (2) a difference between a weighted-average dumping margin of zero or de minimis and a weighted-average dumping margin of greater than de minimis or vice versa. See 19 CFR 351.224(g).

Amended Determination

The Department has reviewed its preliminary calculations and agrees with the petitioners that it made certain ministerial errors within the meaning of 19 CFR 351.224(f) and (g). We agree with the petitioners that the Department erred in miscalculating the surrogate value for electricity, and should have included interest expenses in the normal value calculations. However, we do not agree that the Department erred in not calculating a surrogate value for methane gas. For a detailed analysis of these allegations, and the Department's determinations, see the May 25, 2001 Memorandum to Bernard T. Carreau from Christopher Riker, regarding Ministerial Error Allegations on file in room B-099 of the Main Commerce building. As a result of our analysis of the petitioners' allegations and because those errors were significant within the meaning of 19 CFR 351.224(g), we are amending our preliminary determination to revise the antidumping rates for Sidex Trading, SRL & Sidex International, Plc, Metanef, S.A., Metagrimex, S.A. and Metalexportimport, S.A., in accordance with 19 CFR 351.224(e). Suspension of liquidation will be revised accordingly and parties shall be notified of this determination, in accordance with sections 733(d) and (f) of the Tariff Act of 1930, as amended.

The following weighted-average dumping margins apply:

Manufacturer/exporter | Margin (percent)
Sidex Trading, SRL & Sidex International, Plc | 50.96
Metanef, S.A. | 62.37
Metagrimex, S.A. | 50.23
Metalexportimport, S.A. | 54.22
Romania-Wide | 88.62

The Romania-wide rate has not been amended, and applies to all entries of the subject merchandise except for entries from exporters/producers that are identified individually above.

This determination is issued and published pursuant to sections 733(f) and 777(i)(1) of the Act.

Dated: May 29, 2001.
Faryar Shirzad,
Assistant Secretary for Import Administration.

[FR Doc. 01-14280 Filed 6-5-01; 8:45 am]

BILLING CODE 3510-DS-P